DEPARTMENT OF DEFENSE

Office of the Secretary

[Docket ID: DOD-2016-OS-0076]

Privacy Act of 1974; Notice of a Computer Matching Program

AGENCY: Defense Manpower Data Center, DoD.

ACTION: Notice of a Computer Matching Program.

SUMMARY: Subsection (e) (12) of the Privacy Act of 1974 (5 U.S.C. 552a), as amended by the Computer Matching and Privacy Protection Act of 1988 (Pub. L. 100-503), Office of Management and Budget (OMB) Guidelines on the Conduct of Matching Programs (54 FR 25818 published June 19, 1989), and OMB Circular No. A-130, “Management of Federal Information Resources,” revised November 28, 2000, requires agencies to publish advance notice of any proposed or revised computer matching agreement for public comment. The Defense Manpower Data Center (DMDC) of the Department of Defense (DoD), as the matching agency under the Privacy Act is hereby giving notice to the record subjects of a computer matching agreement with the Administration for Children and Families of the Department of Health and Human Services (HHS) acting on behalf of the State Public Assistance Agencies (SPAA).

DATES: This proposed action will become effective July 29, 2016 and matching may commence unless changes to the matching program are required due to public comments or by Congressional or by Office of Management and Budget objections. Any public comment must be received before the effective date.

ADDRESSES: You may submit comments, identified by docket number and title, by any of the following methods:

• Federal Rulemaking Portal: http://www.regulations.gov. Follow the instructions for submitting comments.

• Mail: Department of Defense, Office of the Deputy Chief Management Officer, Directorate for Oversight and Compliance, 4800 Mark Center Drive, Mailbox #24, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard at telephone (703) 571-0070.

SUPPLEMENTARY INFORMATION: Pursuant to subsection (o) of the Privacy Act of 1974, as amended (5 U.S.C. 552a), the DoD and the HHS have concluded an agreement to conduct a computer matching program between the agencies. The purpose of this computer matching program is to exchange personal data for the purposes of identifying individuals who are receiving Federal compensation or pension payments and are also receiving payments pursuant to Federal benefits programs being administered by the States.

The parties to this agreement have determined that a computer matching program is the most efficient, expeditious, and effective means of obtaining and processing the information needed to identify individuals who may be ineligible for public assistance benefits, i.e., to verify client declarations of income circumstances. The principal alternative to using a computer matching program for identifying such individuals would be to conduct a manual comparison of all DoD pay/retirement/survivor pay files and the Office of Personnel Management civilian retired pay records with SPAA records of those individuals currently receiving public assistance under a Federal benefit program being administered by the State. Conducting a manual match, however, would clearly impose a considerable administrative burden, constitute a greater intrusion of the individual's privacy, and would result in additional delay in the eventual recovery of any outstanding debts. By contrast, when using the computer matching program, information on successful matches (hits) can be provided within 30 days of receipt of an electronic file of SPAA beneficiaries.

A copy of the computer matching agreement between HHS and DoD is available upon request to the public. Requests should be submitted to Defense Privacy, Civil Liberties, and Transparency Division, Office of the Deputy Chief Management Officer, Office of the Secretary of Defense, 4800 Mark Center Drive, Attention: DPCLTD Mailbox #24, Alexandria, Virginia 22350-1700 or to the Department of Health and Human Services, Administration for Children and Families, 330 C Street, SW Switzer Building, Room 3117B, Washington, DC 20024.

Set forth below is the notice of the establishment of a computer matching program required by paragraph 6.c. of the Office of Management and Budget (OMB) Guidelines on computer matching published in the Federal Register at 54 FR 25818 on June 19, 1989.

The matching agreement, as required by 5 U.S.C. 552a(r) of the Privacy Act, as amended, and an advance copy of this notice was submitted on June 10, 2016, to the House Committee on Oversight and Government Reform, the Senate Committee on Homeland Security and Governmental Affairs, and the Administrator of the Office of Information and Regulatory Affairs, Office of Management and Budget, pursuant to paragraph 4 of Appendix I to OMB Circular No. A-130, “Federal Agency Responsibilities for Maintaining Records About Individuals,” revised November 28, 2000 (December 12, 2000 65 FR 77677).

Dated: June 24, 2016.
Aaron Siegel,
Alternate OSD Federal Register Liaison Officer, Department of Defense.

NOTICE OF A COMPUTER MATCHING PROGRAM BETWEEN THE DEFENSE MANPOWER DATA CENTER, DEPARTMENT OF DEFENSE; THE ADMINISTRATION FOR CHILDREN AND FAMILIES, DEPARTMENT OF HEALTH AND HUMAN SERVICES; AND STATE PUBLIC ASSISTANCE AGENCIES FOR VERIFICATION OF CONTINUED ELIGIBILITY FOR PUBLIC ASSISTANCE.

A. PARTICIPATING AGENCIES: Participants in this computer matching program are the State Public Assistance Agencies (SPAA), the Administration for Children and Families (ACF) of the Department of Health and Human Services (HHS), and the Defense Manpower Data Center (DMDC) of the Department of Defense (DoD). The SPAA is the source agency, the agency disclosing the records for the purpose of the match; ACF is the facilitating agency, the agency acting on behalf of the SPAAs; and the DMDC is the matching agency, the agency that actually performs the match.

B. PURPOSE OF THE MATCH: This agreement establishes an arrangement for a periodic computer matching program between DMDC as the matching agency, ACF as the facilitating agency, and the SPAAs as the source agencies who will use the data in their public assistance programs. The purpose of this matching program is to provide the SPAAs with data from DoD military and civilian pay files, the military retired pay files, survivor pay files and the Office of Personnel Management civilian retired and survivor pay files to determine eligibility and to ensure fair and equitable treatment in the delivery of benefits attributable to funds provided by the Federal Government. The SPAAs will use the matched data to verify the continued eligibility of individuals to receive public assistance benefits and, if ineligible, to take such action as may be authorized by law and regulation.

ACF, in its role as match facilitator, will support each SPAA's efforts to ensure appropriate delivery of benefits by assisting with drafting the necessary agreements, helping arrange signatures to the agreements and acting as a central shipping point as necessary.

This agreement sets forth the responsibility of the SPAAs with respect to information obtained pursuant to this agreement. Each SPAA match is expected to comply with pertinent requirements of the Privacy Act, including its implementing regulations and guidance.

C. AUTHORITY FOR CONDUCTING THE MATCH: The legal authority for conducting the matching program is contained in sections 402, 1137, and 1903(r) of the Social Security Act (42 U.S.C. 602, a 1320b-7, and 1396b(r)).

D. RECORDS TO BE MATCHED: The systems of records maintained by the respective agencies under the Privacy Act of 1974, as amended, 5 U.S.C. 552a, from which records will be disclosed for the purpose of this computer match are as follows:

1. Federal, but not State, agencies must publish system notices for “systems of records” pursuant to subsection (e)(4) of the Privacy Act and must identify “routine uses” pursuant to subsection (b)(3) of the Privacy Act for those systems of records from which they intend to disclose this information. The DoD system of records described below contains an appropriate routine use proviso which permits disclosure of information by DMDC as described in this Agreement.

2. DMDC will use personal data from the record system identified as DMDC 01, entitled “Defense Manpower Data Center Data Base”, November 23, 2011, 76 FR 72391. As previously noted, the DoD records will be matched electronically against records supplied by the SPAAs. No information will be disclosed from any systems of records maintained by HHS.

E. DESCRIPTION OF COMPUTER MATCHING PROGRAM: Each participating SPAA will send ACF an electronic file of eligible public assistance client information. These files are non-Federal computer records maintained by the States. Participating SPAAs can submit files to DMDC via “Connect Direct” or other secure portal arranged with DMDC. After DMDC receives the SPAA files, it will match the SPAA files against the DMDC database. The DMDC database consists of pay of DoD personnel and retirement records of non-postal Federal civilian employees and military members, both active and retired and survivor annuitants. The matching activity will take place at DMDC and will use all nine digits of the SSN. Resulting “hits” or matches will be disclosed to the relevant SPAAs.

1. The electronic files provided by each participating SPAA will contain data elements of the client's name, SSN, date of birth, address, sex, marital status, number of dependents, information regarding the specific public assistance benefit being received, and such other data as considered necessary on no more than 10,000,000 public assistance beneficiaries.

2. The DMDC computer database file contains approximately 4.85 million records of active duty and retired military members, including the Reserve and Guard, and approximately 3.68 million records of active and retired non-postal Federal civilian employees. Employee or retiree records may include information on benefits payable to employee or retiree dependents and/or survivors.

3. DMDC will match the SSN on the SPAA file by computer against the DMDC database. Matching records, “hits” based on SSNs, will produce data elements of the individual's name; SSN; active or retired; if active, military service or employing agency, and current work or home address, and such other data as considered necessary.

F. INCLUSIVE DATES OF THE MATCHING PROGRAM: This computer matching program is subject to public comment and review by Congress and the Office of Management and Budget (OMB). If the mandatory 30 day period for comment has expired and no comments are received and if no objections are raised by either Congress or the OMB within 40 days of being notified of the proposed match, the computer matching program becomes effective and the respective agencies may begin the exchange at a mutually agreeable time and thereafter on a quarterly basis. By agreement between HHS and DoD, the matching program will be in effect for 18 months with an option to renew for 12 additional months unless one of the parties to the agreement advises the other by written request to terminate or modify the agreement.

G. ADDRESS FOR RECEIPT OF PUBLIC COMMENTS OR INQUIRIES: Department of Defense, Office of the Deputy Chief Management Officer, Directorate for Oversight and Compliance, 4800 Mark Center Drive, Mailbox #24, Alexandria, VA 22350-1700.

[FR Doc. 2016-15405 Filed 6-28-16; 8:45 am]

BILLING CODE 5001-06-P